TENNESSEE VALLEY AUTHORITY

Sunshine Act Notice; Meeting No. 1544

Time and Date: 9 a.m. (EST), March 19, 2003, TVA Chattanooga Office Complex Auditorium, 1101 Market Street, Chattanooga, Tennessee.

Status: Open.

Agenda

Approval of minutes of meeting held on January 14, 2003.

New Business

B—Purchase Awards

B1. Contract with Edwards Supply Co., Inc., for custodial supplies and equipment.

B2. Supplement to Contract No. 2232 with SSC Service Solutions for custodial services at various TVA locations.

B3. Contracts with Milan Express and Overnite Transportation for purchase of less-than-truckload transportation services for TVA operations.

C—Energy

C1. Contract with VA Tech Elin Transformatoren GMBH & Co for extra-high voltage transformers.

C2. Contract with Roberts & Schaefer Company/AZCO, Inc., for coal-handling system equipment and engineering services for any TVA fossil plant.

C3. Contract with Twentymile Coal Company for bituminous coal for Widows Creek Fossil Plant Units 1-6.

C4. Contract with Mitsui Babcock LLC to design, manufacture, deliver, and install NOXStar equipment for Colbert Fossil Plant Unit 4.

C5. Contract with Industrial Control Distributors, LLC, for valves and gauges and their related parts.

E—Real Property Transactions

E1. Grant of a 30-year public recreation easement, with conditional option for renewals, to the city of Soddy-Daisy, Tennessee, affecting approximately 23.3 acres of land on Chickamauga Reservoir in Hamilton County, Tennessee, Tract No. XTCR-163RE.

E2. Grant of permanent and temporary construction easements to the State of North Carolina for a highway and bridge project, affecting approximately 1.6 acres of land on Hiwassee Reservoir in Cherokee County, North Carolina, Tract No. XTFBR-31H.

E3. Deed modification to allow placement of fill and construction of residences for Sunset Bay Development planned by Tennessee Emmons, LLC, affecting approximately 14 acres of former TVA land on Norris Reservoir in Union County, Tennessee, Tract Nos. XNR-721, S.2X, and XNR-255, S.2X.

E4. Sale of noncommercial, nonexclusive permanent easements to William K. Kerr and Adam A. McCall for construction, operation, and maintenance of private water-use facilities, affecting approximately 0.12 acre of land on Tellico Reservoir in Loudon and Monroe Counties, Tennessee, Tract Nos. XTELR-237RE and XTELR-238RE.

E5. Abandonment of certain easement rights affecting approximately 0.2 acre of land on Fort Loudoun Reservoir in Knox County, Tennessee, Tract No. FL-198F, S.1X, to allow placement of fill and construction of a residence by Patrick Schaad.

Information Items

1. Approval of the abandonment of a portion of the easements for TVA's Trinity-Finley No. 1 and No. 2 161-kV transmission line, affecting approximately 11.57 acres of land in exchange for transmission line easement rights affecting approximately 39.14 acres in Morgan County, Alabama, and satisfaction of certain contingencies.

2. Approval of a contract supplement for continued Electric Power Research Institute membership.

3. Approval of the sale of a permanent easement to Knoxville Tourism and Sports Corporation affecting approximately 0.13 acre of land in Knoxville, Tennessee, Tract No. XKOC-2E.

4. Approval to enter into lease financing arrangements for combustion turbine generating facilities at the Lagoon Creek Combustion Turbine Plant and the Kemper County, Mississippi, site.

5. Approval of the accounting treatment for the minimum unfunded pension liability for fiscal year 2002, the adoption of SFAS No. 143, and the change in methodology for estimating and recording unbilled revenue.

6. Certification and approval of the Tennessee Valley Authority Fiscal Year 2002 Information Statement and Analysis of Results of Operations and Financial Condition contained in the Fiscal Year 2002 Annual Report.

7. Approval of the Corporate Accountability and Disclosure Plan, creation of and delegation of authority to a Disclosure Control Committee, and the Disclosure and Financial Ethics Code.

8. Approval of the sale of an option to enter into an interest rate swap associated with a call provision which TVA has on $1 billion of TVA Power Bonds and for delegations to take related actions.

9. Approval of the sale of a permanent easement to RiverCity Company affecting approximately 1.95 acres of land in Chattanooga, Tennessee, Tract No. XHBOB-1E.

FOR MORE INFORMATION CONTACT: Please call TVA Media Relations at (865) 632-6000, Knoxville, Tennessee. Information is also available at TVA's Washington Office (202) 898-2999. People who plan to attend the meeting and have special needs should call (865) 632-6000. Anyone who wishes to comment on any of the agenda in writing may send their comments to: TVA Board of Directors, Board Agenda Comments, 400 West Summit Hill Drive, Knoxville, Tennessee 37902.

Dated: March 12, 2003.
Clifford L. Beach, Jr.,
Attorney and Assistant Secretary.

[FR Doc. 03-6392 Filed 3-13-03; 9:37 am]

BILLING CODE 8120-08-P